DEPARTMENT OF ENERGY

Federal Energy Regulatory Commission

[Docket No. RP02-132-007]

Viking Gas Transmission Company; Notice of Compliance Filing

November 28, 2003.

Take notice that on November 24, 2003, Viking Gas Transmission Company (Viking) tendered for filing to become part of Viking's FERC Gas Tariff, First Revised Volume No. 1, the following tariff sheets to become effective January 1, 2004:

Sixth Revised Sheet No. 5

Fourth Revised Sheet No. 5E

Fourth Revised Sheet No. 5A

Fourth Revised Sheet No. 5B

Fourth Revised Sheet No. 5F

Fourth Revised Sheet No. 5C

Fourth Revised Sheet No. 5D

Fourth Revised Sheet No. 5G

Sixth Revised Sheet No. 5H

Second Revised Sheet No. 5I

Viking proposes to place the Stage 2 Rates into effect in accordance with the terms and conditions of Viking's Stipulation and Agreement.

Viking states that copies of this filing have been sent to all of Viking's contracted shippers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E3-00454 Filed 12-3-03; 8:45 am]

BILLING CODE 6717-01-P